ENVIRONMENTAL PROTECTION AGENCY

[Docket No. EPA-RO4-SFUND-2010-0892, FRL-9220-5]

Arkwright Dump Site, Spartanburg, Spartanburg County, SC; Notice of Settlement

AGENCY: Environmental Protection Agency.

ACTION: Notice of Settlement.

SUMMARY: Under Section 122(h)(1) of the Comprehensive Environmental Response, Compensation and Liability Act (CERCLA), the United States Environmental Protection Agency has entered into a settlement for reimbursement of past response costs concerning the Arkwright Dump Site located in Spartanburg, Spartanburg County, South Carolina for publication.

DATES: The Agency will consider public comments on the settlement until December 6, 2010. The Agency will consider all comments received and may modify or withdraw its consent to the settlement if comments received disclose facts or considerations which indicate that the settlement is inappropriate, improper, or inadequate.

ADDRESSES: Copies of the settlement are available from Ms. Paula V. Painter. Submit your comments, identified by Docket ID No. EPA-RO4-SFUND-2010-0892 or Site name Arkwright Dump Site by one of the following methods:

• http://www.regulations.gov: Follow the on-line instructions for submitting comments.

• http://www.epa.gov/region4/waste/sf/enforce.htm.

• E-mail. Painter.Paula@epa.gov.

FOR FURTHER INFORMATION CONTACT: Paula V. Painter at 404/562-8887.

Dated: October 22, 2010.
Anita L. Davis,
Chief, Superfund Enforcement & Information Management Branch, Superfund Division.

[FR Doc. 2010-27882 Filed 11-3-10; 8:45 am]

BILLING CODE 6560-50-P